ENVIRONMENTAL PROTECTION AGENCY

[FRL-9941-83-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 2449.02; Water Quality Standards Regulatory Clarifications (Final Rule); 40 CFR part 131; was approved without change on 12/31/2015; OMB Number 2040-0286; expires on 12/31/2018.

EPA ICR Number 1039.14; Monthly Progress Reports (Renewal); 48 CFR part 1552.211; was approved with change on 12/30/2015; OMB Number 2030-0005; expires on 12/31/2018.

EPA ICR Number 2137.07; NESHAP for Coal- and Oil-fired Electric Utility Steam Generating Units (Renewal); 40 CFR part 63, subparts A and UUUUU; was approved without change on 12/23/2015; OMB Number 2060-0567; expires on 12/31/2018.

EPA ICR Number 2268.04; NESHAP for Paint Stripping and Miscellaneous Surface Coating at Area Sources (Renewal); 40 CFR part 63, subparts HHHHHH and A; was approved without change on 12/22/2015; OMB Number 2060-0607; expires on 12/31/2018.

EPA ICR Number 1983.07; NESHAP for Carbon Black, Ethylene, Cyanide, and Spandex (Renewal); 40 CFR part 63, subparts A and YY; was approved without change on 12/22/2015; OMB Number 2060-0489; expires on 12/31/2018.

EPA ICR Number 1055.11; NSPS for Kraft Pulp Mills (Renewal); 40 CFR part 60, subparts A and BB; was approved without change on 12/22/2015; OMB Number 2060-0021; expires on 12/31/2018.

EPA ICR Number 1831.06; NESHAP for Ferroalloys Production: Ferromanganese and Silicomanganese (Renewal); 40 CFR part 63, subpart XXX; was approved without change on 12/22/2015; OMB Number 2060-0391; expires on 12/31/2018.

EPA ICR Number 2237.04; NESHAP for Gasoline Distribution Bulk Terminals, Bulk Plants, Pipeline Facilities and Gasoline Dispensing Facilities (Renewal); 40 CFR part 63, subparts A, BBBBBB and CCCCCC; was approved without change on 12/22/2015; OMB Number 2060-0620; expires on 12/31/2018.

EPA ICR Number 2152.05; Clean Air Interstate Rule to Reduce Interstate Transport of Fine Particle Matter and Ozone (Renewal); 40 CFR parts 51 and 96; was approved without change on 12/22/2015; OMB Number 2060-0570; expires on 12/31/2018.

EPA ICR Number 2385.06; Emission Guidelines for Commercial and Industrial Solid Waste Incineration (CISWI) units (Renewal); 40 CFR part 60, subpart DDDD; was approved without change on 12/22/2015; OMB Number 2060-0664; expires on 12/31/2018.

EPA ICR Number 2170.06; Revisions to the Air Emissions Reporting Requirements: Revisions to Lead (Pb) Reporting Threshold and Clarifications to Technical Reporting Details (Final Rule); 40 CFR part 51; was approved without change on 12/22/2015; OMB Number 2060-0580; expires on 12/31/2018.

EPA ICR Number 1748.10; State Small Business Stationary Source Technical and Environmental Compliance Assistance Programs (SBTCP) Annual Reporting Form (Renewal); was approved without change on 12/21/2015; OMB Number 2060-0337; expires on 12/31/2018.

EPA ICR Number 1676.06; Clean Air Act Tribal Authority (Renewal); 40 CFR parts 9, 35, 49, 50, and 81; was approved without change on 12/18/2015; OMB Number 2060-0306; expires on 12/31/2018.

EPA ICR Number 1617.08; Servicing of Motor Vehicle Air Conditioners (Renewal); 40 CFR part 82; was approved without change on 12/17/2015; OMB Number 2060-0247; expires on 12/31/2018.

EPA ICR Number 1395.09; Emergency Planning and Release Notification Requirements under Emergency Planning and Community Right-to-Know Act Sections 302, 303, and 304 (Renewal); 40 CFR part 355; was approved without change on 12/16/2015; OMB Number 2050-0092; expires on 12/31/2018.

EPA ICR Number 1352.13; Community Right-to-Know Reporting Requirements Under Sections 311 and 312 of the Emergency Planning and Community Right-to-Know Act (EPCRA) (Renewal); 40 CFR part 370; was approved with change on 12/16/2015; OMB Number 2050-0072; expires on 12/31/2018.

EPA ICR Number 0370.25; Underground Injection Control (UIC) Program (Renewal); 40 CFR parts 144, 145, 146, 147, 148, and 124; was approved with change on 12/8/2015; OMB Number 2040-0042; expires on 12/31/2018.

EPA ICR Number 1506.12; NSPS for Municipal Waste Combustors (Renewal); 40 CFR part 60, subparts A, Ea, and Eb; was approved with change on 12/1/2015; OMB Number 2060-0210; expires on 12/31/2018.

EPA ICR Number 1985.06; NESHAP for Leather Finishing Operations (Renewal); 40 CFR part 63, subparts A and TTTT; was approved with change on 12/1/2015; OMB Number 2060-0478; expires on 12/31/2018.

EPA ICR Number 0982.11; NSPS for Metallic Mineral Processing Plants (Renewal); 40 CFR part 60, subparts A and LL; was approved with change on 12/1/2015; OMB Number 2060-0016; expires on 12/31/2018.

EPA ICR Number 1964.06; NESHAP for Wet-Formed Fiberglass Mat Production (Renewal); 40 CFR part 63, subparts A and HHHH; was approved with change on 12/1/2015; OMB Number 2060-0496; expires on 12/31/2018.

EPA ICR Number 1807.08; NESHAP for Pesticide Active Ingredient Production (Renewal); 40 CFR part 63, subparts A and MMM; was approved without change on 12/1/2015; OMB Number 2060-0370; expires on 12/31/2018.

Comment Filed

EPA ICR Number 2519.01; Hazardous Waste Export-Import Revisions (Proposed Rule); 40 CFR part 262, subparts E, H, F; OMB filed comment on 12/15/2015.

EPA ICR Number 1692.08; NESHAP for Petroleum Refineries (Proposed Rule); 40 CFR part 63, subpart CC; OMB filed comment on 12/15/2015.

Courtney Kerwin,
Acting Director, Collections Strategies Division.

[FR Doc. 2016-10361 Filed 5-3-16; 8:45 am]

BILLING CODE 6560-50-P